DEPARTMENT OF HOMELAND SECURITY

Coast Guard

33 CFR Part 165

[COTP Mobile-03-013]

RIN 1625-AA87 (Formerly 1625-AA00)

Security Zone; Bayou Casotte, Pascagoula, MS

AGENCY: Coast Guard, DHS.

ACTION: Notice of proposed rulemaking; withdrawal.

SUMMARY: The Coast Guard is withdrawing its notice of proposed rulemaking concerning the establishment of a permanent security zone for the waters of Bayou Casotte around the Chevron Pascagoula refinery. Under the Maritime Transportation Security Act of 2002, owners or operators of this facility will be required to take specific action to improve facility security. As such, a security zone around this facility will no longer be necessary under normal conditions.

DATES: This notice of proposed rulemaking is withdrawn on July 2, 2004.

FOR FURTHER INFORMATION CONTACT: Lieutenant (LT) Carolyn Beatty, Operations Department, Marine Safety Office, Mobile, AL, at (251) 441-5771.

SUPPLEMENTARY INFORMATION:

Background

On July 7, 2003, the Coast Guard published a notice of proposed rulemaking entitled “Security Zone; Bayou Casotte, Pacagoula, MS” in the Federal Register (68 FR 40231). This proposed rule concerned the establishment of a permanent security zone for the waters of Bayou Casotte around the Chevron Pascagoula refinery. The proposed security zone would have protected the Chevron Pascagoula refinery, persons, and vessels from subversive or terrorist acts. Entry of persons or vessels into the security zone would have been prohibited unless authorized by the Captain of the Port Mobile or a designated representative.

Withdrawal

Under the authority of the Maritime Transportation Security Act of 2002, the Coast Guard published a final rule on October 22, 2003 entitled “Facility Security” in the Federal Register (68 FR 60515) that established 33 CFR part 105. That final rule became effective November 21, 2003, and provides security measures for certain facilities, including the Chevron Pascagoula Refinery. Section 105.200 of 33 CFR requires owners or operators of this facility to designate security officers for facilities, develop security plans based on security assessments and surveys, implement security measures specific to the facility's operations, and comply with Maritime Security Levels. Under 33 CFR 105.115, the owner or operator of this facility must, by December 31, 2003, submit to the Captain of the Port, a Facility Security Plan as described in subpart D of 33 CFR part 105, or if intending to operate under an approved Alternative Security Program as described in 33 CFR 101.130, a letter signed by the facility owner or operator stating which approved Alternative Security Program the owner or operator intends to use. Section 105.115 also requires the facility owner or operator to be in compliance with 33 CFR part 105 on or before July 1, 2004. As a result of these enhanced security measures, the security zone around the Chevron Pascagoula Refinery will no longer be necessary under normal conditions.

This action is taken under the authority of 33 U.S.C. 1226, 1231; 46 U.S.C. Chapter 701; 50 U.S.C. 191; 33 CFR 1.05-1(g), 6.04-1, 6.04-6, and 160.5; Pub. L. 107-295, 116 Stat. 2064; Department of Homeland Security Delegation No. 0170.1.

Dated: June 21, 2004.
G.T. Croot,
Commander, U.S. Coast Guard, Acting Captain of the Port Mobile.

[FR Doc. 04-15114 Filed 7-1-04; 8:45 am]

BILLING CODE 4910-15-P